DEPARTMENT OF COMMERCE

International Trade Administration

A-428-801

Ball Bearings and Parts Thereof from Germany: Preliminary Results of Antidumping Duty Changed-Circumstances Review

AGENCY: Import Administration, International Trade Administration, Department of Commerce.

SUMMARY: On March 11, 2008, pursuant to section 751(b) of the Tariff Act of 1930, as amended (the Act), and 19 CFR 351.216 and 351.221(c)(3), the Department of Commerce initiated a changed-circumstances review of the antidumping duty order on ball bearings and parts thereof from Germany with respect to myonic GmbH. See Initiation of Antidumping Duty Changed-Circumstances Review: Ball Bearings and Parts Thereof from Germany, 73 FR 12953 (March 11, 2008) (myonic Initiation). After reviewing information on the record, we have preliminarily concluded that myonic GmbH is the successor-in-interest to Miniaturkugellager Gesellschaft mit beschränkter Haftung and, as a result, should be accorded the same treatment previously accorded Miniaturkugellager Gesellschaft mit beschränkter Haftung with regard to the antidumping duty order on ball bearings and parts thereof from Germany. Interested parties are invited to comment on these preliminary results.

EFFECTIVE DATE: May 7, 2008.

FOR FURTHER INFORMATION CONTACT: Richard Rimlinger at (202) 482-4477, AD/CVD Operations, Office 5, Import Administration, International Trade Administration, U.S. Department of Commerce, 14th Street and Constitution Avenue, NW, Washington, DC 20230.

SUPPLEMENTARY INFORMATION:

Background

On January 31, 2008, myonic GmbH (myonic) asked the Department to initiate and conduct a changed-circumstances review to confirm that myonic is the successor-in-interest to Miniaturkugellager Gesellschaft mit beschränkter Haftung (MKL) for purposes of determining antidumping-duty liabilities subject to this order. On March 11, 2008, we initiated a changed-circumstances review of the antidumping duty order on ball bearings and parts thereof from Germany with respect to myonic. See myonic Initiation. On March 13, 2008, we sent myonic a supplemental questionnaire requesting further information. On March 24, 2008, we received a timely response to our supplemental questionnaire. On March 27, 2008, we sent myonic a second supplemental questionnaire. On April 8, 2008, we received a timely response to our second supplemental questionnaire. We have not received comments from any other interested parties.

Scope of the Order

The products covered by this order are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

As a result of recent changes to the HTS, effective February 2, 2007, the subject merchandise is also classifiable under the following additional HTS item numbers: 8708.30.5090, 8708.40.7500, 8708.50.7900, 8708.50.8900, 8708.50.9150, 8708.50.9900, 8708.80.6590, 8708.94.75, 8708.95.2000, 8708.99.5500, 8708.99.68, and 8708.99.8180.

Successor-in-Interest Determination

In a changed-circumstances review involving a successor-in-interest determination, the Department typically examines several factors including, but not limited to, changes in the following: (1) management; (2) production facilities; (3) supplier relationships; (4) customer base. See Certain Cut-to-Length Carbon Steel Plate from Romania: Initiation and Preliminary Results of Changed Circumstances Antidumping Duty Administrative Review, 70 FR 22847 (May 3, 2005). While no single factor or combination of factors will necessarily be dispositive, generally the Department will consider the new company to be the successor to the predecessor if the resulting operations are essentially the same as those of the predecessor company. See, e.g., Notice of Initiation of Antidumping Duty Changed Circumstances Review: Certain Forged Stainless Steel Flanges from India, 71 FR 327 (January 4, 2006). Thus, if the record demonstrates that, with respect to the production and sale of the subject merchandise, the new company operates as the same business entity as the predecessor company, the Department may assign the new company the cash-deposit rate of its predecessor. See, e.g., Fresh and Chilled Atlantic Salmon from Norway: Final Results of Changed Circumstances Antidumping Duty Administrative Review, 64 FR 9979, 9980 (March 1, 1999).

In its January 31, 2008, submission, myonic provided information to demonstrate that myonic is the successor-in-interest to MKL. Myonic submitted a notarized copy of the minutes from the December 11, 2001, meeting of myonic's shareholders memorializing the name change from MKL to myonic. See exhibit D of myonic's January 31, 2008, submission. Myonic also submitted its Articles of Association demonstrating that myonic continued to produce and market subject merchandise after the name change. See exhibit E of myonic's January 31, 2008, submission. Further, myonic provided a letter it sent to its customers informing them of the name change and that the company's production of subject merchandise would continue. See exhibit F of myonic's January 31, 2008, submission. Myonic also submitted its June 19, 2006, Articles of Association demonstrating that on June 1, 2006, all stock of myonic was purchased by myonic Holding GmbH. See exhibit G of myonic's January 31, 2008, submission.

Additional information in myonic's March 24, 2008, and April 8, 2008, submissions shows that myonic's management, production facilities, suppliers, and customer base are consistent with those of MKL. As such, we conclude that myonic's request for a changed-circumstances review demonstrates that no major changes have occurred with respect to MKL's management, production facilities, suppliers, or customer base as a result of MKL's name change to myonic or the purchase of all of myonic's stock by myonic Holding GmbH. Therefore, we preliminarily find that myonic is the successor-in-interest to MKL and, as such, is entitled to MKL's cash-deposit rate with respect to entries of subject merchandise.

Public Comment

Any interested party may request a hearing within 14 days of publication of this notice. See 19 CFR 351.310(c). Any hearing, if requested, will be held 28 days after the date of publication of this notice or the first working day thereafter. Interested parties may submit case briefs and/or written comments not later than 14 days after the date of publication of this notice. See 19 CFR 351.309(c)(1)(ii). Rebuttal briefs and rebuttals to written comments, which must be limited to issues raised in such briefs or comments, may be filed not later than 5 days after the deadline for submitting the case briefs. See 19 CFR 351.309(d). Parties who submit case briefs or rebuttal briefs in this changed-circumstances review are requested to submit with each argument (1) a statement of the issue and (2) a brief summary of the argument. Parties should also submit an electronic version of their case and rebuttal briefs. Consistent with 19 CFR 351.216(e), we will issue the final results of this changed-circumstances review no later than 270 days after the date on which this review was initiated or within 45 days of publication of these preliminary results if all parties to the proceeding agree to our preliminary finding.

We are issuing and publishing these preliminary results notice in accordance with sections 751(b)(1) and 777(i) of the Act and 19 CFR 351.216 and 351.221(c)(3).

Dated: May 1, 2008.
David M. Spooner,
Assistant Secretary for Import Administration.

[FR Doc. E8-10161 Filed 5-6-08; 8:45 am]

BILLING CODE: 3510-DS-S